ENVIRONMENTAL PROTECTION AGENCY

[OPPT-2004-0084; FRL-7352-9]

Request for Nominations to the Proposed Endocrine Disruptor Methods Validation Advisory Committee (EDMVAC)

AGENCY: Environmental Protection Agency (EPA).

ACTION: Request for nominations.

SUMMARY: EPA is inviting nominations of qualified candidates to consider for appointment to the proposed Endocrine Disruptor Methods Validation Advisory Committee (EDMVAC), which is replacing the Endocrine Disruptor Methods Validation Subcommittee (EDMVS) under the National Advisory Council for Environmental Policy and Technology (NACEPT). EPA will consider nominations submitted in response to this notice as well as nominations received from other outreach efforts in selecting EDMVAC members. The purpose of the proposed EDMVAC will be to provide advice and recommendations to EPA on scientific and technical aspects of the Tier I screens and Tier II assays being considered for the Endocrine Disruptor Screening Program (EDSP). The proposed Committee will evaluate relevant scientific issues, protocols, data and interpretations of the data for the assays during the validation process. The proposed EDMVAC will provide advice on the composition of the Tier I screening battery as well.

DATES: Nominations will be accepted until 4 p.m. eastern time on May 26, 2004.

ADDRESSES: Nominations may be submitted electronically, by mail, or through hand delivery/courier. Follow the detailed instructions as provided in Unit I.C. of the SUPPLEMENTARY INFORMATION. To protect personal information from disclosure to the public do not submit nominations materials to the EDMVAC Docket or through any online electronic commenting system.

FOR FURTHER INFORMATION CONTACT: For general information contact: Colby Lintner, Regulatory Coordinator, Environmental Assistance Division (7404M), Office of Pollution Prevention and Toxics, Environmental Protection Agency, 1200 Pennsylvania Ave., NW., Washington, DC 20460; telephone number: (202) 564-1404; e-mail address: TSCA-Hotline@epa.gov.

For technical information contact: Jane Smith, Designated Federal Official, Office of Science Coordination and Policy (7201M), Environmental Protection Agency, 1200 Pennsylvania Ave., NW., Washington, DC 20460; telephone number: (202) 564-8476, fax: (202) 564-8283; e-mail address: smith.jane-scott@epa.gov.

SUPPLEMENTARY INFORMATION:

I. General Information

A. Does this Action Apply to Me?

This action is directed to the public in general. You may be interested in the nomination of members to the committee set forth in this notice if you are a member of an environmental/public interest organization, a public health organization, an animal welfare organization, academia or Federal agencies, state, local, or tribal governments. You also may be interested in activities of EPA's EDSP if you produce, manufacture, use, consume, work with, or import pesticides or other chemicals. To determine whether you or your business may have an interest in this notice you should carefully examine section 408(p) of the Federal Food, Drug, and Cosmetic Act (FFDCA), as amended by the Food Quality Protection Act (FQPA) of 1996 (Public Law 104-170), 21 U.S.C. 346a(p) and amendments to the Safe Drinking Water Act (SDWA) (Public Law 104-182), 42 U.S.C. 300j-17. Since other entities may also be interested, the Agency has not attempted to describe all the specific entities that may be affected by this action. If you have any questions regarding this action, please contact the technical person listed under FOR FURTHER INFORMATION CONTACT.

B. How Can I Get Additional Information, Including Copies of this Document or Other Related Documents?

1. Electronically. You may access this Federal Register document electronically through the EPA Internet site under the “Federal Register” listings at http://www.epa.gov/fedrgstr/.

Information about the former Endocrine Disruptor Methods Validation Subcommittee, the Endocrine Disruptor Screening Program and related programs is available from http://www.epa.gov/scipoly/oscpendo/.

EPA has established an official public docket for the proposed EDMVAC under docket identification (ID) number OPPT-2004-0084. The official public docket consists of the documents related to the activities of the committee and any public comments received. Although a part of the official docket, the public docket does not include Confidential Business Information (CBI) or other information whose disclosure is restricted by statute. To protect personal information from disclosure to the public, do not submit nominations materials in response to this Notice to the docket or through any online electronic commenting system. Instead, follow the instructions listed under Unit I.C.

An electronic version of the public docket is available through EPA's electronic public docket and comment system, EPA Dockets. You may use EPA Dockets at http://www.epa.gov/edocket/ to access the index listing of the contents of the official public docket, and to access those documents in the public docket that are available electronically. Although not all docket materials may be available electronically, you may still access any of the publicly available docket materials through the docket facility identified in Unit I.B.1. Once in the system, select “search,” then key in the appropriate docket ID number.

2. In person. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0272.

3. By mail. You may obtain copies of this document and other related documents from the technical contact person listed under FOR FURTHER INFORMATION CONTACT.

C. How Can I Nominate Potential Members to this Proposed Committee?

You may nominate qualified persons for membership to this proposed Committee electronically, by mail, or in person/by courier. Nominations for membership should include a curriculum vitae of the nominee detailing his or her specific area of relevant expertise, as described below in Unit I.D., and a designation of the type of organization the candidate represents according to Unit II.C.

To protect personal information from disclosure to the public, do not submit nominations materials to the EDMVAC Docket or through any online electronic commenting system. Submit your nomination, marked “Attention EDMVAC nominations” by one of these methods:

1. Electronically: Submit e-mail nominations to smith.jane-scott@epa.gov.

2. By mail: Environmental Protection Agency, Confidental Business Information (CBIC), Mail Code 7407M, 1200 Pennsylvania Ave., NW., Washington, DC 20460.

3. By courier: Environmental Protection Agency, Attention: Jane Smith, EPA East Building, Room 4106M, 1201 Constitution Ave., NW., Washington, DC 20004-3302, contact phone numbers: 202-564-8476 and 202-564-1656. The room at which submissions are accepted is only open until 4 p.m. If a courier service comes after that time the service will be turned away. Non-uniformed (bicycle, etc.) couriers will be met at the 1201 Constitution Ave. entrance by EPA personnel. Uniformed couriers are admitted to deliver directly to the technical contact.

D. What Should I Consider When Making Nominations?

Potential candidates should be qualified persons with relevant technical scientific expertise (e.g., endocrinology, mammalian toxicology, ecotoxicology, in vitro testing, biostatistics, wildlife biology, icthyology); diversity of perspectives on endocrine disruptor screening and testing methods and procedures; and standardization and validation of toxicity test methods.

Candidates with interdisciplinary technical scientific experience described above and former EDMVS subcommittee members are strongly encouraged to apply.

In addition, proposed Committee candidates should be willing to:

• Commit to attend three to four meetings per year for 2 years, most of them in Washington, DC.

• Serve on a subcommittee or working group, as needed.

Nominees not selected for the proposed Committee may be considered for membership on subcommittees or working groups.

When making your nomination, please classify the candidate with respect to the types of organizations represented in Unit II.C. and identify the types of experience of the candidate in the form of a curriculum vitae or other informational document.

II. Background

A. Introduction

EPA's ongoing implementation of the EDSP is science-driven and supported by the recommendations and comments of the Endocrine Disruptor Screening and Testing Advisory Committee, the Science Advisory Panel/Science Advisory Board Joint Panel, and the EDMVS. The Agency's implementation is currently proceeding on three fronts: Priority setting for chemicals to be screened and tested; validation of the Tier I screening methods and Tier II assays; and developing policies and procedures for requiring endocrine disruptor testing. See Unit I.B.1. to learn how to get more information on the EDSP.

B. Proposed Committee Purpose

The proposed EDMVAC is being established in accordance with the provisions of the Federal Advisory Committee Act (FACA), 5 U.S.C. App. 2 (Public Law 92-463); copies of the Committee Charter have been filed with the appropriate committees of Congress and the Library of Congress. The proposed EDMVAC will support EPA in its scientific activities related to the validation of assays for the Endocrine Disruptor Screening Program (63 FR 71541) (FRL-6052-9) required by FFDCA as amended in 1996 by FQPA (21 U.S.C. 346a(p)). The proposed EDMVAC is in the public interest and will support EPA in performing its duties and responsibilities.

This function was previously served by the Endocrine Disruptor Methods Validation Subcommittee under the auspices of EPA's National Advisory Council for Environmental Policy and Technology. The proposed EDMVAC will continue the functions of the EDMVS providing advice and recommendations to EPA on scientific and technical aspects of the Tier I screens and Tier II assays being considered for the Endocrine Disruptor Screening Program. The proposed committee will evaluate relevant scientific issues, protocols, data and interpretations of the data for the assays during the validation process. The proposed EDMVAC will also provide advice on the composition of the Tier I screening battery.

C. Composition and Organization

1. Membership. The proposed Committee will be composed of approximately 25 members. An EPA employee will act as the Designated Federal Official (DFO) who will be responsible for providing the necessary staffing, operations, and support for the Committee.

The Agency is seeking qualified senior-level scientists from diverse sectors to be considered for membership on the proposed Committee. The Agency will consider candidates from the types of organizations listed below and other relevant interest areas.

• Federal, State and local government agency.

• Federally recognized Tribe.

• Public health or environmental professional.

• Chemical or pesticide manufacturer and/or user.

• Non-governmental organization, such as environmental group, environmental justice organization, children's advocate, and animal welfare organization.

• Other non-governmental entity, as deemed appropriate.

• Academics.

Establishing a balance and diversity of experience and knowledge in membership is an important consideration in the selection of members.

2. Subcommittees and workgroups. Subcommittees and workgroups may be established on an as-needed basis consisting of Committee members, or supplemented with individuals qualified in the area of the subcommittee or workgroup.

3. Meetings and public involvement. All Committee meetings will be called, announced, and held in accordance with FACA requirements, including public notice of meetings in the Federal Register, open meetings, and an opportunity for interested persons to file comments before or after meetings, or to make statements during the public meetings to the extent time permits.

List of Subjects

Environmental protection, Endocrine disruptors, Endocrine Disruptor Screening Program, Endocrine Disrupor Methods Validation Subcommittee.

Dated: April 8, 2004.
Susan B. Hazen,
Assistant Administrator, Office of Prevention, Pesticides and Toxic Substances.

[FR Doc. 04-9410 Filed 4-23-04; 8:45 am]

BILLING CODE 6560-50-S